DEPARTMENT OF TRANSPORTATION

Federal Aviation Administration

14 CFR Part 73

[Docket No. FAA-2009-0490; Airspace Docket No. 09-AWP-3]

RIN 2120-AA66

Proposed Establishment of Restricted Area R-2502A; Fort Irwin, CA

AGENCY: Federal Aviation Administration (FAA), DOT.

ACTION: Notice of proposed rulemaking.

SUMMARY: This action proposes to establish a restricted area (R-2502A) at Fort Irwin, CA, as part of a Department of the Army initiative at the National Training Center (NTC). The NTC is being expanded to meet the critical need of the Army for additional training land and airspace suitable for maneuvering large numbers of military personnel and equipment. Additionally, this action would modify the Silver military operation area (MOA) in the vicinity of the NTC Complex. Unlike restricted areas, which are designated under 14 CFR part 73, MOAs are not rulemaking airspace actions. However, since the proposed R-2502A infringes on the Silver MOA, the FAA is including a description of the Silver MOA change in this rule. The MOA change described here will also be published in the National Flight Data Digest (NFDD). The Army requested these airspace changes to provide the additional special use airspace (SUA) above the expanded ground maneuver area to facilitate realistic combat training at the NTC.

DATES: Comments must be received on or before August 27, 2009.

ADDRESSES: Send comments on the proposal to the U.S. Department of Transportation, Dockets Operations, M-30, 1200 New Jersey Avenue, SE., West Building Ground Floor, Room W12-140, Washington, DC 20590-0001; telephone: (202) 366-9826. You must identify docket No. FAA-2009-0490 and Airspace Docket No. 09-AWP-3, at the beginning of your comments. You may also submit comments on the Internet at http://www.regulations.gov.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2009-0490 and Airspace Docket No. 09-AWP-3) and be submitted in triplicate to the Federal Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2009-0490 and Airspace Docket No. 09-AWP-3.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition in person in the Dockets Office (see ADDRESSES section for address and phone number) between 9 a.m. and 5 p.m., Monday through Friday, except Federal holidays. An informal docket may also be examined during normal business hours at the office of the Western Service Center, Operations Support Group, Federal Aviation Administration, 1601 Lind Avenue, SW., Renton, WA 98055.

Persons interested in being placed on a mailing list for future NPRMs should contact the FAA's Office of Rulemaking, (202) 267-9677, for a copy of Advisory Circular No. 11-2A, Notice of Proposed Rulemaking Distribution System, which describes the application procedure.

Background

The NTC at Fort Irwin, California, is the only instrumented training area in the world suitable for force-on-force and live fire training of heavy brigade-sized military forces. It provides the Army with essential training opportunities necessary to maintain and improve military readiness and promote national security.

The Congress in 2001, directed the Department of the Army and the Department of the Interior to draft a proposed plan that would expand the maneuver training lands at the NTC.

This airspace proposal aligns with that land expansion in order to provide overlying airspace to conduct realistic combat training. The expanded airspace enhances the training value of the land based on training goals, equipment capabilities, and Army requirements. Additionally, the employment of aviation assets, explosives, flares, smoke, and other pyrotechnics devices will be deployed in the new airspace.

The FAA supports this proposal. However, the FAA would have concerns for any additional expansion of the airspace in this area higher than 16,000 feet mean sea level (MSL) in the proposed R-2502A due to impacts to the National Airspace System (NAS). A review by the FAA Los Angeles Air Route Traffic Control Center personnel made the following observations: (1) The airspace adjacent to the south of proposed R-2502A is used for separation and sequencing of arriving and departing aircraft for the Los Angeles basin. Air traffic in this area regularly operates at system capacity. A reduction of usable airspace would significantly affect air traffic control services and cause delays to system users. (2) The airspace along the northeast boundary of proposed R-2502A is used for the separation and sequencing of air traffic into Las Vegas, McCarran Airport. A reduction of usable airspace would significantly affect air traffic control services and cause delays to system users. (3) Because of R-2501, the usable airspace along the southern and eastern boundaries of R-2502 East is very constrained. This narrow corridor is heavily used for arrivals and departures at the Los Angeles, Burbank, Van Nuys, and Las Vegas airports. Keeping aircraft from deviating into the proposed R-2502A vertical addition during the months when extensive convective weather is common would be difficult.

Military Operation Area (MOA)

Restricted areas are regulatory airspace designations, under Title 14 Code of Federal Regulations (CFR) part 73, which are established to confine or segregate activities considered hazardous to non-participating aircraft. A MOA is a non-rulemaking type of SUA established to separate or segregate certain non-hazardous military flight activities from aircraft operating in accordance with instrument flight rules (IFR), and to identify for visual flight rules (VFR) pilots where those activities are conducted. IFR aircraft may be routed through an active MOA only when air traffic control can provide approved separation from the MOA activity. VFR pilots are not restricted from flying in an active MOA, but are advised to exercise caution while doing so.

Unlike restricted areas, which are designated through rulemaking procedures, MOAs are non-rulemaking airspace areas that are established administratively and published in the National Flight Data Digest. Normally MOA proposals are not published in a NPRM, but instead, are advertised for public comment through a non-rule circular that is distributed by an FAA Service Center office to aviation interests in the affected area. However, when a non-rulemaking action is connected to a rulemaking action, FAA procedures allow for the non-rulemaking proposal to be included in the NPRM. In such cases, the NPRM replaces the non-rule circularization requirement. Because the change to the Silver MOA North is necessary, due to the proposed establishment of the restricted area, the MOA is being modified to exclude the airspace contained in the proposed R-2502A.

Proposed MOA Change

Silver MOA North, CA

Boundaries. Beginning at lat. 35°39′00″ N., long. 115°53′03″ W.; to lat. 35°24′30″ N., long. 115°53′03″ W.; to lat. 35°06′50″ N., long. 116°20′00″ W.; to lat. 35°04′30″ N., long. 116°29′00″ W.; to lat. 35°07′00″ N.; long. 116°34′03″ W.; to point of beginning. Excluding the airspace below 3,000 feet AGL within a 3NM radius of the town of Baker, CA (lat. 35°16′00″ N. long. 116°04′33″ W.;) and R2502A.

The Proposal

The FAA is proposing an amendment to Title 14 Code of Federal Regulations (14 CFR) part 73 to establish Restricted Areas R-2502A at Fort Irwin, CA. The U.S. Army has requested this restricted area because the existing special use airspace does not include the airspace above the expanded land maneuver area created to support the NTC. This proposed action is required to ensure a safe training environment, isolated from the public, for military air and ground maneuvers from the surface to the upper limits of restricted airspace.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it proposes to establish restricted area airspace at Fort Irwin, CA.

Environmental Review

This proposal will be subjected to the appropriate environmental analysis in accordance with FAA Order 1050.1E, Environmental Impacts: Policies and Procedures, prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2502A Fort Irwin, CA [New]

Boundaries. Beginning at lat. 35°25′48″ N., long. 116°18′48″ W.; to lat. 35°25′30″ N., long. 116°09′46″ W.; to lat. 35°23′15″ N., long. 116°09′47″ W.; to lat. 35°06′54″ N., long. 116°30′17″ W.; to lat. 35°07′00″ N., long. 116°34′03″ W.; to lat. 35°18′45″ N., long. 116°18′48″ W. to point of beginning.

Designated altitudes. Surface to 16,000 feet MSL.

Time of designation. Continuous.

Controlling agency. FAA, Hi-Desert TRACON, Edwards, CA.

Using agency. Commander, Fort Irwin, CA.

* * * * *

Issued in Washington, DC, on July 6, 2009.
Edith V. Parish,
Manager, Airspace and Rules Group.

[FR Doc. E9-16480 Filed 7-10-09; 8:45 am]

BILLING CODE 4910-13-P